DEPARTMENT OF ENERGY

Federal Energy Regulatory Commission

Combined Notice of Filings #2

Take notice that the Commission received the following electric rate filings:

Docket Numbers: ER10-2374-012; ER10-1533-013.

Applicants: Puget Sound Energy, Inc., Macquarie Energy LLC.

Description: Supplement to June 30, 2016 Updated Market Power Analysis for the Northwest Region of Puget Sound Energy, Inc., et al.

Filed Date: 10/5/16.

Accession Number: 20161005-5103.

Comments Due: 5 p.m. ET 10/26/16.

Docket Numbers: ER16-2211-001.

Applicants: Wisconsin Electric Power Company.

Description: Compliance filing: Wisconsin Electric FERC Electric Tariff Volume No. 9-2016 Compliance filing to be effective 9/13/2016.

Filed Date: 10/5/16.

Accession Number: 20161005-5069.

Comments Due: 5 p.m. ET 10/26/16.

Docket Numbers: ER17-24-000.

Applicants: Duke Energy Progress, LLC.

Description: § 205(d) Rate Filing: DEP-DOM IA RS No. 196 Sedge-Hill Concurrence Filing to be effective 9/28/2016.

Filed Date: 10/5/16.

Accession Number: 20161005-5068.

Comments Due: 5 p.m. ET 10/26/16.

Docket Numbers: ER17-25-000.

Applicants: Cimarron Bend Assets, LLC.

Description: Baseline eTariff Filing: Cimarron Bend Assets, LLC SFA to be effective 10/6/2016.

Filed Date: 10/5/16.

Accession Number: 20161005-5073.

Comments Due: 5 p.m. ET 10/26/16.

Docket Numbers: ER17-26-000.

Applicants: Arizona Public Service Company.

Description: Compliance filing: OATT Modification Pursuant to Order No. 828 to be effective 10/5/2016.

Filed Date: 10/5/16.

Accession Number: 20161005-5075.

Comments Due: 5 p.m. ET 10/26/16.

Docket Numbers: ER17-27-000.

Applicants: Nevada Power Company.

Description: Compliance filing: OATT Revisions Attachments N and O to be effective 10/14/2016.

Filed Date: 10/5/16.

Accession Number: 20161005-5088.

Comments Due: 5 p.m. ET 10/26/16.

Docket Numbers: ER17-28-000.

Applicants: Elizabethtown Energy, LLC.

Description: Tariff Cancellation: Notice of Cancellation of Market-Based Rate Tariff for Elizabethtown Energy to be effective 10/7/2016.

Filed Date: 10/5/16.

Accession Number: 20161005-5100.

Comments Due: 5 p.m. ET 10/26/16.

Docket Numbers: ER17-29-000.

Applicants: Lumberton Energy, LLC.

Description: Tariff Cancellation: Notice of Cancellation of Market-Based Rate Tariff for Lumberton Energy to be effective 10/7/2016.

Filed Date: 10/5/16.

Accession Number: 20161005-5102.

Comments Due: 5 p.m. ET 10/26/16.

Docket Numbers: ER17-30-000.

Applicants: Kingman Wind Energy I, LLC, Kingman Wind Energy II, LLC.

Description: Baseline eTariff Filing: Kingman Wind Energy I, LLC and Kingman Wind Energy II, LLC SFA to be effective 11/1/2016.

Filed Date: 10/5/16.

Accession Number: 20161005-5106.

Comments Due: 5 p.m. ET 10/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2016.
Nathaniel J. Davis, Sr.,
Deputy Secretary.

[FR Doc. 2016-24761 Filed 10-12-16; 8:45 am]

BILLING CODE 6717-01-P